CONSUMER PRODUCT SAFETY COMMISSION

16 CFR Part 1500

Dive Sticks Final Rule; Correction

AGENCY: Consumer Product Safety Commission.

ACTION: Final rule; correction.

SUMMARY: This document corrects an error in the final rule banning certain hazardous dive sticks published in the Federal Register of March 7, 2001. That document provided an incorrect paragraph designation for the banning rule. The correct citation for the dive stick rule is 16 CFR 1500.18(a)(19).

DATES: Effective on April 6, 2001.

FOR FURTHER INFORMATION CONTACT: Renae Rauchschwalbe, Office of Compliance, Consumer Product Safety Commission, Washington, D.C. 20207; telephone (301) 504-0608, ext. 1362.

Correction

In final rule FR Doc. 01-5478, beginning on page 13645 in the issue of March 7, 2001, make the following correction. On page 13650, correct the amendatory instuction to read as follows:

“2. Section 1500.18 is amended to add a new paragraph (a)(19) to read as follows:”

Dated: March 15, 2001.
Sadye E. Dunn,
Secretary, Consumer Product Safety Commission.

[FR Doc. 01-7040 Filed 3-21-01; 8:45 am]

BILLING CODE 6355-01-P